DEPARTMENT OF COMMERCE

International Trade Administration

[A-201-836]

Light-Walled Rectangular Pipe and Tube from Mexico: Final Results of Antidumping Duty Administrative Review; 2013-2014

AGENCY: Enforcement and Compliance, International Trade Administration, Department of Commerce

SUMMARY: On July 8, 2015, the Department of Commerce (the Department) published the preliminary results of the administrative review of the antidumping duty order on light-walled rectangular pipe and tube from Mexico.¹ The review covers one producer/exporter of the subject merchandise, Perfiles y Herrajes LM, S.A. de C.V. (Perfiles). The period of review (POR) is August 1, 2013, through July 31, 2014. As a result of our analysis of the comments received, these final results differ from the Preliminary Results. For the final weighted-average dumping margins, see the “Final Results of Review” section below.

¹ See Light-Walled Rectangular Pipe and Tube from Mexico: Preliminary Results of Antidumping Duty Administrative Review; 2013-2014, 80 FR 39055 (July 8, 2015) (Preliminary Results).

DATES: Effective Date: November 12, 2015.

FOR FURTHER INFORMATION CONTACT: Brian Davis or Emily Maloof, AD/CVD Operations, Office VI, Enforcement and Compliance, International Trade Administration, U.S. Department of Commerce, 14th Street and Constitution Avenue NW., Washington, DC 20230; telephone: (202) 482-7924 or (202) 482-5649, respectively.

SUPPLEMENTARY INFORMATION:

Background

On July 8, 2015, the Department published the Preliminary Results. In accordance with 19 CFR 351.309(c)(1)(ii), we invited parties to comment on the Preliminary Results. On August 7, 2015, Perfiles submitted a timely case brief.² We received no additional case or rebuttal briefs from any interested party. We did not receive a hearing request.

² See Letter to the Department, “Light-Walled Rectangular Pipe and Tube from Mexico for the 2013-2014 Review Period—Case Brief of Perfiles y Herrajes LM, S.A. de C.V.”, dated August 7, 2015.

Scope of the Order

The scope of this order covers certain welded carbon-quality light-walled steel pipe and tube, of rectangular (including square) cross section, having a wall thickness of less than 4 mm. The welded carbon-quality rectangular pipe and tube subject to the order is currently classified under the Harmonized Tariff Schedule of the United States (HTSUS) subheadings 7306.61.50.00 and 7306.61.70.60. The merchandise subject to the order is currently classified in the Harmonized Tariff Schedule of the United States at subheadings 8504.23.0040, 8504.23.0080 and 8504.90.9540.³

³ For a full description of the scope of the order, see the Memorandum from Christian Marsh, Deputy Assistant Secretary for Antidumping and Countervailing Duty Operations, to Paul Piquado, Assistant Secretary for Enforcement and Compliance, titled “Issues and Decision Memorandum for the Final Results of the Administrative Review of the Antidumping Duty Order on Light-Walled Rectangular Pipe and Tube from Mexico; 2013-2014” (Issues and Decision Memorandum), which is issued concurrent with and hereby adopted by this notice.

Analysis of Comments Received

All issues raised in the case brief by Perfiles in this administrative review are addressed in the Issues and Decision Memorandum.⁴ A list of the issues that Perfiles raised and to which we responded is attached to this notice as an Appendix. The Issues and Decision Memorandum is a public document and is on-file electronically via ACCESS. ACCESS is available to registered users at http://access.trade.gov and in the Central Records Unit, Room B8024 of the main Department of Commerce building. In addition, a complete version of the Issues and Decision Memorandum can be accessed directly on the Internet at http://enforcement.trade.gov/frn/index.html. The signed Issues and Decision Memorandum and the electronic version of the Issues and Decision Memorandum are identical in content.

⁴ Id.

Changes Since the Preliminary Results

Based on a review of the record and comments received from Perfiles regarding our Preliminary Results, we recalculated Perfiles' weighted-average dumping margin for these final results.

In particular, we revised our comparison program to address certain programming errors, including errors related to discounts and rebates, and to account for certain insurance expenses. We also revised our margin program to include certain sales in our analysis that were inadvertently omitted in the Preliminary Results.⁵

⁵ See Memorandum from Emily Maloof to the File, regarding “Analysis of Data Submitted by Perfiles y Herrajes LM, S.A. de C.V. in the Final Results of the Administrative Review of the Antidumping Duty Order on Light-Walled Rectangular Pipe and Tube from Mexico; 2013-2014” (Perfiles Final Analysis Memorandum), dated November 4, 2015 at section “Changes from the Preliminary Results,” for further information.

Final Results of Review

The weighted-average dumping margin for the period August 1, 2013, through July 31, 2014, is as follows:

Manufacturer/exporter | Weighted- average margin (percent)
Perfiles | 0.00

Duty Assessment

The Department will determine, and U.S. Customs and Border Protection (CBP) shall assess, antidumping duties on all appropriate entries in this review, in accordance with 19 CFR 351.212(b). Because we have calculated a zero margin for Perfiles in the final results of this review, we will instruct CBP to liquidate the appropriate entries without regard to antidumping duties.

The Department clarified its “automatic assessment” regulation on May 6, 2003.⁶ This clarification will apply to entries of subject merchandise during the POR produced by the respondent for which it did not know its merchandise was destined for the United States. In such instances, we will instruct CBP to liquidate unreviewed entries at the all-others rate if there is no rate for the intermediate company(ies) involved in the transaction. For a full discussion of this clarification, see the Automatic Assessment Clarification.

⁶ See Antidumping and Countervailing Duty Proceedings: Assessment of Antidumping Duties, 68 FR 23954 (May 6, 2003) (Automatic Assessment Clarification).

The Department intends to issue assessment instructions directly to CBP 41 days after publication of the final results of this review.

Cash Deposit Requirements

The following cash deposit requirements will be effective upon publication of this notice for all shipments of subject merchandise entered, or withdrawn from warehouse, for consumption on or after the publication of these final results, as provided by section 751(a)(2) of the Act: (1) The cash deposit rate for Perfiles noted above will be the rate established in the final results of this administrative review; (2) for merchandise exported by manufacturers or exporters not covered in this administrative review but covered in a prior segment of the proceeding, the cash deposit rate will continue to be the company specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 3.76 percent, the all-others rate established in the antidumping investigation.⁷ These cash deposit requirements, when imposed, shall remain in effect until further notice.

⁷ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403, 45404 (August 5, 2008).

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in the Department's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: November 4, 2015.
Paul Piquado,
Assistant Secretary for Enforcement and Compliance.

Appendix—List of Topics Discussed in the Final Issues and Decision Memorandum

I. Summary

II. Issues

III. Background

IV. Scope of the Order

V. Discussion of Interested Party Comments

Comment 1: Discounts Granted on Home-Market Sales

Comment 2: The Proper Universe of Sales

Comment 3: Certain Home-Market Insurance Expenses

VI. Recommendation

[FR Doc. 2015-28752 Filed 11-10-15; 8:45 am]

BILLING CODE 3510-DS-P